DEPARTMENT OF HEALTH AND HUMAN SERVICES

Administration for Children and Families

Submission for OMB Review; Comment Request

Title: Low Income Home Energy Assistance Program (LIHEAP) Grantee Survey.

OMB No.: 0970-0076.

Description: The LIHEAP Grantee Survey is an annual data collection activity, which is sent to the 50 States and the District of Columbia grantees administering the Low Income Home Energy Assistance Program (LIHEAP). The survey is mandatory in order that national estimates of the sources and uses of LIHEAP funds can be calculated in a timely manner; a range can be calculated of state average LIHEAP benefits; and maximum income cutoffs for 4-person households can be obtained for estimating the number of low-income households that are income eligible for LIHEAP under State income standards.

Respondents: 50 States and the District of Columbia.

Annual Burden Estimates:

Instrument | Number of respondents | Number of responses per respondent | Average burden hours per response | Total burden hours
Survey | 51 | 1 | 3.4 | 173.4

Estimated Total Annual Burden Hours: 173.4.

Additional Information: The need for the survey is to provide the Administration and Congress with fiscal estimates in time for hearings about LIHEAP appropriations and program performance. The information also is included in the Department's annual LIHEAP Report to Congress. Survey information also will be posted on Office of Community Services LIHEAP web site for access by grantees and other interested parties.

Copies of the proposed collection may be obtained by writing to the Administration for Children and Families, Office of Administration, Office of Information services, 370 L'Enfant Promenade, SW., Washington, DC 20447, Attn: ACF Reports Clearance Officer. All request should be identified by the title of the information collection. E-mail address: grjohnson@acf.hhs.gov.

OMB Comment: OMB is required to make a decision concerning the collection of information between 30 and 60 days after publication of this document in the Federal Register. Therefore, a comment is best assured of having its full effect if OMB receives it within 30 days of publication. Written comments and recommendations for the proposed information collection should be sent directly to the following: Office of Management and Budget, Paperwork Reduction Project, Attn: Desk Officer for ACF, e-mail address: Katherine_T._Astrich@omb.eop.gov.

Dated: November 9, 2004.
Robert Sargis,
Reports Clearance Officer.

[FR Doc. 04-25341 Filed 11-15-04; 8:45 am]

BILLING CODE 4184-01-M